DELAWARE RIVER BASIN COMMISSION

Notice of Commission Meeting and Public Hearing

Notice is hereby given that the Delaware River Basin Commission will hold an informal conference followed by a public hearing on Wednesday, September 26, 2007. The hearing will be part of the Commission's regular business meeting. Both the conference session and business meeting are open to the public and will be held at the Commission's office building, located at 25 State Police Drive in West Trenton, New Jersey.

The conference among the commissioners and staff will begin at 10:15 a.m. Topics of discussion will include a status report by staff of the U.S. Army Corps of Engineers (USACE) and DRBC on the study entitled “Multi-Jurisdictional Use and Management of Water Resources for the Delaware River Basin”; a report on the status of Basin Plan implementation; a presentation by staff of the USACE on a groundwater model for northern Delaware; a presentation on a proposal for permanent designation of the Lower Delaware River as Special Protection Waters; and a report on the status of the proposal for a Flexible Flow Management Program.

The subjects of the public hearing to be held during the 1:30 p.m. business meeting include the dockets listed below:

1. Forest Park Water (North Penn and North Wales Water Authorities) D-65-76 CP-10. An application for the renewal of a project to continue to discharge up to 2 million gallons per day (mgd) of treated backwash water from the potable water treatment plant to Pine Run, a tributary of North Branch Neshaminy Creek. No expansion of the water treatment process or the wastewater treatment plant (WWTP) backwash is proposed. The project will continue to serve portions of Bucks and Montgomery Counties, both in Pennsylvania. The project is located in the non-tidal portion of the Neshaminy Creek Watershed in Chalfont Borough, Bucks County, Pennsylvania and is located in the Southeastern Pennsylvania Ground Water Protected Area.

2. Abington Township D-73-191 CP-2. An application for approval of an upgrade of the Abington Township WWTP. The application is for the addition of biological nutrient removal, the addition of a 750,000 gallon equalization tank and associated upgrades for wet-weather flow conditions. The WWTP will continue to discharge 3.91 mgd as an annual average flow to the Wissahickon Creek, a tributary to the Schuylkill River. The project is located in Upper Dublin Township, Montgomery County, Pennsylvania.

3. Pennsgrove Water Supply Company D-93-77 CP-3. An application to replace the withdrawal of water from Well No. 11 in the applicant's water supply system with no increase in the total withdrawal. The existing Well No. 11 has become an unreliable source of supply. The total withdrawal from replacement Well No. 11A and all other wells will remain limited to 70.4 million gallons per thirty days (mg/30 days). The project is located in the Potomac-Raritan-Magothy Formation in the Delaware River Watershed in Pennsgrove Borough, Salem County, New Jersey.

4. Westwood Golf Club, D-96-3-2. An application for the renewal of a ground water withdrawal project to continue withdrawal of 5 mg/30 days to supply the applicant's golf course from existing Wells Nos. 2 and 3 in the Englishtown Aquifer. The project is located in the Lower Delaware Watershed in West Deptford Township, Gloucester County, New Jersey, in New Jersey Critical Water Supply Area 2.

5. William Henry Apartments D-68-92-2. An application for approval of upgrades of the existing William Henry Apartments WWTP to remedy operational issues. The WWTP will be modified to treat domestic wastewater at the hydraulic design of the facility, which is 69,000 gallons per day (gpd). The applicant's WWTP serves the William Henry Apartment complex and will continue to discharge to the headwaters of Ridley Creek. The project is located in East Whiteland Township, Chester County, Pennsylvania.

6. Aqua Pennsylvania, Inc. D-75-78 CP-2. An application for the renewal of a ground water withdrawal project to increase withdrawal from 3.6 mg/30 days to 8.3 mg/30 days to supply the applicant's public water supply distribution system from existing Wells Nos. 2, 3 and 4 and one spring in the Duncannon, Polar Gap and Packerton members of the Catskill Formation. The increased allocation is requested in order to meet projected increases in service area demand. The project is located in the Van Auken Creek Watershed in Waymart Borough, Wayne County, Pennsylvania, within the drainage area to the section of the non-tidal Delaware River known as the Upper Delaware, which is designated as Special Protection Waters.

7. Kiamesha Artesian Spring Water Company, Inc. D-90-68 CP-3. An application for the renewal of a ground water withdrawal project and to increase withdrawal from 9.8 mg/30 days to 27.78 mg/30 days to supply the applicant's public water supply distribution system from the existing Filtration Plant Well and Fraser Road Well and two existing but heretofore undocketed intakes in Kiamesha Lake. The increased allocation is requested in order to meet projected increases in service area demand. The project is located in the Kiamesha Creek Watershed in the Town of Thompson, Sullivan County, New York, within the drainage area to the section of the non-tidal Delaware River known as the Upper Delaware, which is designated as Special Protection Waters.

8. Upper Gwynedd Township D-91-88 CP-3. An application for the approval of the rerate of the Upper Gwynedd Township WWTP from 4.5 mgd to 5.7 mgd as an annual average flow. The docket holder has also requested a 6.5 mgd value for a maximum monthly flow and a hydraulic design capacity. The WWTP will continue to discharge to the Wissahickon Creek, a tributary to the Schuylkill River. The project is located in Upper Gwynedd Township, Montgomery County, Pennsylvania.

9. Lehigh County Authority D-2001-20 CP-2. An application for approval of a groundwater withdrawal project to supply up to 30.94 mg/30 days of water to the applicant's public water supply distribution from new Wells A and B and to increase the existing withdrawal from all wells from 226 mg/30 days to 256.24 mg/30 days. The increased allocation is requested in order to meet projected increases in service area demand. The project is located in the Allentown, Jacksonburg and Beekmantown formations in the Schaefer Run, Little Lehigh Creek, Cedar Creek and Iron Run watersheds in Upper Macungie Township, Lehigh County, Pennsylvania, within the drainage area to the section of the non-tidal Delaware River known as the Lower Delaware, which is designated as Special Protection Waters.

10. Coolbaugh Township D-2006-23 CP-2. An application for approval to upgrade and expand an existing WWTP from 0.052 mgd to 0.1 mgd by the addition of membrane filters to the existing membrane bioreactor. The addition of the membrane filters will improve treatment quality and detention time, so that no new tanks are required. The project is located in Coolbaugh Township, Monroe County, Pennsylvania. The plant discharges to the Tobyhanna Creek in the Lehigh River Watershed, which is in the drainage area of the Lower Delaware River portion of the DRBC Special Protection Waters. The WWTP will continue to serve a portion of Coolbaugh Township only and will continue to discharge through the existing outfall, which is upstream from Francis E. Walter Dam and Pocono Lake. Coolbaugh Township is currently pursuing the beneficial reuse of the WWTP effluent for irrigation of a nearby golf course during the summer months.

11. River Road Utilities, Inc. D-2006-38-1. An application to approve the reconstruction and expansion of the existing Tuscarora WWTP. The discharge is proposed to increase from 49,000 gpd to 66,000 gpd and will continue to be to the Delaware River. The project is located in Upper Mount Bethel Township, Northampton County, Pennsylvania and discharges to the section of the non-tidal Delaware River known as the Lower Delaware, which is designated as Special Protection Waters.

12. Wallace Township Municipal Authority D-2006-39 CP-1. An application for approval of a groundwater withdrawal project to supply up to 8.1 mg/30 days of water to the applicant's public water supply distribution system from new Wells Nos. PW-4, PW-6, PW-7 and PW-8. The project is located in the Granitic Gneiss Formation in the East Brandywine Creek Watershed in Wallace Township, Chester County, Pennsylvania.

13. East Brandywine Township Municipal Authority D-2007-2 CP-1. An application for approval of a WWTP project to serve proposed residential development in East Brandywine Township, Chester County, Pennsylvania. The proposed facility is designed to provide treatment of 0.3 mgd via sequencing batch reactor and tertiary filtration processes. The project is located at the intersection of East Reeceville and Bollinger Roads in East Brandywine Township. Following ultraviolet light disinfection, WWTP effluent will be discharged to a spray irrigation system of the proposed golf course and driving range, and, when necessary to a drip irrigation field.

14. Forest Glen Estates, LLC D-2007-8-1. An application for approval to discharge up to 33,750 gallons per day to a holding pond and subsequently through a spray irrigation system to irrigate 14.5 acres of woodlands. Wastewater will be generated from the applicant's proposed 134 one-acre single-family residential lots and an 18-acre existing homestead on a 313-acre tract. The project is located in the Dingmans Creek Watershed in Delaware Township, Pike County, Pennsylvania.

15. Vogel Farm and Broad Mountain Spring Water Companies D-2007-10-1. An application for approval of a groundwater withdrawal project to supply up to 6.26 mg/30 days of water to the applicant's bottled water truck loading facilities from new Wells VFPW1, VFPW2 and BMPW1. The project is located in the Mauch Chunk Formation in the Quakake Creek Watershed in Packer Township, Carbon County, Pennsylvania within the drainage area to the section of the non-tidal Delaware River known as the Lower Delaware, which is designated as Special Protection Waters.

16. Hamlet of Bloomville—Community Wastewater Management Program D-2007-11 CP-1. An application for approval to construct a centralized wastewater treatment system to serve the Hamlet of Bloomville, which is currently served by on-lot septic systems. Two 0.03 mgd septic tanks will be provided, but each will be typically operated at an average flow of 0.015 mgd, so that maintenance can be performed periodically without a disruption of service. The septic tank effluent will be pumped to sand filters prior to subsurface discharge to cut-and-fill adsorption leach beds. The project is located in the Wright Brook and West Branch Delaware River watersheds upstream from Cannonsville Reservoir in the Town of Kortright, Delaware County, New York, which is in the drainage area of the Upper Delaware River portion of the DRBC Special Protection Waters.

17. Hamlet of Hamden—Community Wastewater Management Program D-2007-12 CP-1. An application for approval to construct a centralized wastewater treatment system to serve the Hamlet of Hamden, which is currently served by on-lot septic systems. Two 0.026 mgd septic tanks will be provided, but each will be typically operated at an average flow of 0.013 mgd, so that maintenance can be performed periodically without a disruption of service. The septic tank effluent will be pumped to sand filters prior to subsurface discharge to cut-and-fill adsorption leach beds. The project is located in the Launt Hollow Creek and the West Branch Delaware River watersheds upstream from Cannonsville Reservoir in the Town of Hamden, Delaware County, New York, which is in the drainage area of the Upper Delaware River portion of the DRBC Special Protection Waters.

18. Wallace Township Municipal Authority D-2007-17 CP-1. An application for approval to construct a 0.185 mgd WWTP to serve the proposed Hamilton development, located predominantly in Wallace Township, Chester County, Pennsylvania. A small portion of the 636-acre site extends into West Nantmeal Township, also in Chester County. Approximately 688 residential dwellings and supporting commercial buildings will be served. Following advanced treatment in parallel sequencing batch reactors, the effluent will be filtered and disinfected by ultra-violet light prior to land application via drip irrigation. The proposed WWTP and drip irrigation fields are located north of the intersection of Fairview and Creek Roads in the East Brandywine Creek Watershed in Wallace Township. No discharge to surface waters is proposed.

19. Dragon Springs Buddhist, Inc. D-2007-21-1. An application for approval to construct an 11,000 gpd WWTP and discharge the effluent to an unnamed tributary of the Basker Kill, a tributary of the Neversink River. The discharge is located in the drainage area of the Middle Delaware Special Protection Waters. The project is located in the Town of Deerpark, Orange County, New York. The project WWTP will treat wastewater from a proposed multi-purpose building, which will be constructed on 4.4 acres of forested land. The existing temple complex is served by septic systems that process less than 10,000 gallons per day (gpd). Several of these mound-type systems will continue to be used due to their remote location on the property and their efficient operation.

20. Diamond Sand and Gravel, Inc. D-2007-27-1. An application for approval of a groundwater withdrawal project to supply less than 3.1 mg/30 days of water to the applicant's sand and gravel plant from new Wells Nos. 1 and 2A. The project is located in the Leithsville Formation in the Paulins Kill Watershed in Sparta Township, Sussex County, New Jersey, within the drainage area to the section of the non-tidal Delaware River known as the Lower Delaware, which is designated as Special Protection Waters.

In addition, the Commission's 1:30 p.m. business meeting will include public hearings on: a resolution to approve an interim reservoir operating plan for the New York City Delaware Basin Reservoirs pending completion of rulemaking on Water Code amendments to implement the Flexible Flow Management Program (FFMP); a resolution to extend temporary designation of the Lower Delaware River as Special Protection Waters pending completion of a rulemaking on permanent designation; and a resolution to restore text inadvertently omitted from the project review fee schedule approved by Resolution No. 2005-1. The Commission also will consider a resolution concerning a Pennsylvania Coastal Zone Management Program grant to develop a pilot special area management plan for the Upper Wissahickon Watershed; and resolutions to authorize participation by DRBC staff in the State of New Jersey Long-Term Care Insurance Program.

The meeting will also include adoption of the Minutes of the Commission's July 18, 2007 business meeting; announcements of upcoming advisory committee meetings and other events; a report by the Executive Director; a report by the Commission's General Counsel; and an opportunity for public dialogue.

Draft dockets scheduled for public hearing on September 26, 2007 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: August 30, 2007.
Pamela M. Bush,
Commission Secretary.

[FR Doc. E7-17611 Filed 9-5-07; 8:45 am]

BILLING CODE 6360-01-P